DEPARTMENT OF ENERGY

[OE Docket Nos. EA-247-C and 248-C]

Application To Export Electric Energy; Constellation NewEnergy, Inc.

AGENCY: Office of Electricity Delivery and Energy Reliability, DOE.

ACTION: Notice of Application.

SUMMARY: Under two separate applications, Constellation NewEnergy, Inc. (Constellation) has applied for authority to transmit electric energy from the United States to Mexico and from the United States to Canada pursuant to section 202(e) of the Federal Power Act.

DATES: Comments, protests, or requests to intervene must be submitted on or before December 18, 2009.

ADDRESSES: Comments, protests, or requests to intervene should be addressed as follows: Office of Electricity Delivery and Energy Reliability, Mail Code: OE-20, U.S. Department of Energy, 1000 Independence Avenue, SW., Washington, DC 20585-0350 (FAX 202-586-8008).

FOR FURTHER INFORMATION CONTACT: Ellen Russell (Program Office) 202-586-9624 or Michael Skinker (Program Attorney) 202-586-2793.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On November 13, 2001, DOE issued Order No. EA-247 authorizing Constellation to transmit electric energy from the United States to Mexico as a power marketer for a two year period. DOE has twice renewed Constellation's authority to export. The most recent authorization, in Order No. EA-247-B, will expire on April 8, 2010. On October 27, 2009, Constellation applied to DOE to renew the authorization contained in Order No. EA-247-B for an additional five-year term.

On November 26, 2001, DOE issued Order No. EA-248 which authorized Constellation to transmit electric energy from the United States to Canada as a power marketer. That Order was also twice-renewed and will expire on April 8, 2010. On October 27, 2009, Constellation applied to DOE to renew the authorization contained in Order No. EA-247-B for an additional five-year term.

The electric energy which Constellation proposes to export to Mexico and Canada would be surplus energy purchased from electric utilities, Federal power marketing agencies and other entities within the United States. Each of the international transmission facilities to be utilized by Constellation has previously been authorized by a Presidential permit issued pursuant to Executive Order 10485, as amended, and are appropriate for open access transmission by third parties.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each petition and protest should be filed with DOE on or before the date listed above.

Comments on the Constellation application to export electric energy to Mexico should be clearly marked with Docket No. EA-247-C. Comments on the Constellation application to export electric energy to Canada should be clearly marked with Docket No. EA-248-C. Additional copies are to be filed directly with Joseph Donovan, Senior Counsel, Constellation Energy Resources, LLC on behalf of Constellation NewEnergy, Inc., 111 Market Place, Suite 500, Baltimore, MD 21202. A final decision will be made on this application after the environmental impacts have been evaluated pursuant to the National Environmental Policy Act of 1969, and a determination is made by DOE that the proposed action will not adversely impact on the reliability of the U.S. electric power supply system.

Copies of these applications will be made available, upon request, for public inspection and copying at the address provided above, by accessing the program Web site at http://www.oe.energy.gov/permits_pending.htm, or by e-mailing Odessa Hopkins at Odessa.hopkins@hq.doe.gov.

Issued in Washington, DC, on November 12, 2009.
Anthony J. Como,
Director, Permitting and Siting, Office of Electricity Delivery and Energy Reliability.

[FR Doc. E9-27655 Filed 11-17-09; 8:45 am]

BILLING CODE 6450-01-P